DEPARTMENT OF LABOR

Employment and Training Administration

[TA-W-50,790]

Dura Automotive Systems, Inc., Shifters Group, Livonia, MI; Notice of Termination of Investigation

Pursuant to section 221 of the Trade Act of 1974, as amended, an investigation was initiated on February 4, 2003 in response to a worker petition filed by a company official on behalf of workers at Dura Automotive Systems, Inc., Shifters Group, Livonia, Michigan.

The petitioner has requested that the petition be withdrawn. Consequently, further investigation in this case would serve no purpose, and the investigation has been terminated.

Signed at Washington, DC, this 27th day of February, 2003.
Linda G. Poole,
Certifying Officer, Division of Trade Adjustment Assistance.

[FR Doc. 03-6411 Filed 3-17-03; 8:45 am]

BILLING CODE 4510-30-P